DEPARTMENT OF COMMERCE

National Institute of Standards and Technology

Advanced Technology Program; Announcement of Public Meetings

AGENCY: National Institute of Standards and Technology, Commerce.

ACTION: Notice of public meetings (proposers' conferences).

SUMMARY: The National Institute of Standards and Technology (NIST) invites interested parties to attend public meetings (Proposers' Conferences) to learn more about the Advanced Technology Program (ATP). ATP partners with industry on high-risk, high technology research in technologies ranging from advanced manufacturing to medicine and from advanced materials to microelectronics.

DATES: The public meetings will be held on January 30, February 1, and February 6, 2001 in Chicago, Las Vegas, and Gaithersburg, respectively. The meetings at all three locations will be held from 9:30 a.m.-12:30 p.m. local time.

ADDRESSES: The meetings will be held at the following three locations:

Tuesday, January 30, 2001, Holiday Inn O'Hare International, 5440 N. River Road, Rosemont, IL 60018, Tel: 847-671-6350; Fax: 847-671-5406

Thursday, February 1, 2001, Alexis Park, 375 E. Harmon Avenue, Las Vegas, NV 89109, Tel: 800-582-2228; Fax: 702-796-4334

(Note: For the meetings in Chicago and Las Vegas, a block of rooms has been reserved at the meeting locations at room rates of $120 and $125, respectively.)

Tuesday, February 6, 2001, NIST, Green Auditorium, 100 Bureau Drive, Gaithersburg, MD 20899-0001

If you plan to attend the meeting in Gaithersburg, a block of rooms has been reserved at:

Holiday Inn (room rate: $95), 2 Montgomery Village Avenue, Gaithersburg, MD 20879, Tel: 301-948-8900; Fax; 301-258-1940

To register for a room for any of the three conferences, please contact the hotel at least three weeks prior to your arrival date, and mention that you are attending the NIST/ATP Meeting.

Information on the ATP may be obtained from the following address:

National Institute of Standards and Technology, Advanced Technology Program, 100 Bureau Drive, Stop 4701, Administration Building 101, Room A413, Gaithersburg, MD 20899-4701

Additionally, information on the ATP is available on the Internet at the ATP website http://www.atp.nist.gov.

FOR FURTHER INFORMATION CONTACT: For further information, you may telephone Toni Nashwinter at 301-975-3780 or e-mail: Toni.Nashwinter@nist.gov.

Requests for ATP information, application materials, and/or to have your name added to the ATP mailing list for future mailings may also be made by:

(a) Calling the ATP toll-free “hotline” number at 1-800-ATP-FUND or 1-800-287-3863. You will have the option of hearing recorded messages regarding the status of the ATP or speaking to one of our customer representatives who will take your name and address. If you reach ATP voice mail, please speak distinctly and slowly and spell the words that might cause confusion. Leave your phone number as well as your name and address;

(b) Sending a facsimile (fax) to 301-926-9524 or 301-590-3053; or

(c) Sending electronic mail to atp@nist.gov. Include your name, full mailing address, and phone number.

SUPPLEMENTARY INFORMATION: The Omnibus Trade and Competitiveness Act of 1988 (Public Law 100-418, 15 U.S.C. 278n), amended by the American Technology Preeminence Act of 1991 (Public Law 102-245), directed the establishment of ATP. The purpose of the ATP is to assist United States businesses to carry out research and development on high-risk, high-pay-off, emerging and enabling technologies.

These public meetings will provide general information regarding the ATP, details on the new application process, tips on preparing good proposals, and an opportunity for audience questions.

No registration fee will be charged. The format and content of each of the public meetings will be the same.

Registration for the public meetings is as follows:

For electronic registration, visit www.nist.gov/conferences. Please scroll down the NIST conference listing to find the appropriate date.

Fax registration form by 1/16/01 to Kimberly Snouffer, 301-948-2067.

Mail registration form (Exhibit 1 in ATP Proposal Preparation Kit) by 1/16/01 to NIST Conference Office, 100 Bureau Drive, Stop 3461, Gaithersburg, MD 20899-3461.

Dated: December 27, 2000.
Raymond G. Kammer,
Director.

[FR Doc. 00-33430 Filed 12-29-00; 8:45 am]

BILLING CODE 3510-13-M